FEDERAL HOUSING FINANCE BOARD

Sunshine Act Meeting Notice; Announcing a Closed Meeting of the Board of Directors

Time and Date: A closed meeting of the Board of Directors is scheduled to begin at 10 a.m. on Wednesday, July 23, 2008.

Place: Board Room, First Floor, Federal Housing Finance Board, 1625 Eye Street, NW., Washington, DC 20006.

Status: The meeting will be closed to the public.

Matter to be Considered at the Meeting: Periodic Update of Examination Program Development and Supervisory Findings.

Contact Person for More Information: Shelia Willis, Paralegal Specialist, Office of General Counsel, at 202-408-2876 or williss@fhfb.gov.

By the Federal Housing Finance Board.
Dated: July 16, 2008.
Neil R. Crowley,
Deputy General Counsel.

[FR Doc. 08-1453 Filed 7-17-08; 11:06 am]

BILLING CODE 6725-01-P